DEPARTMENT OF HEALTH AND HUMAN SERVICES

Administration for Children and Families

Office of the Deputy Assistant Secretary for Early Childhood Development, Office of Head Start, Office of Child Care; Statement of Organization, Functions, and Delegations of Authority

AGENCY: Administration for Children and Families, HHS.

ACTION: Notice.

SUMMARY: The Administration for Children and Families (ACF) has reorganized the Office of Early Childhood Development (ECD), the Office of Head Start (OHS), and the Office of Child Care (OCC).

FOR FURTHER INFORMATION CONTACT: Colleen Rathgeb, Associate Deputy Assistant Secretary, Office of Early Childhood Development, 330 C Street SW, Washington, DC 20201, (202) 205-7378.

SUPPLEMENTARY INFORMATION: This reorganization removes the Office of the Deputy Assistant Secretary for Early Childhood Development (ODAS-ECD) from the Immediate Office of the Assistant Secretary (IOAS) and creates the Office of Early Childhood Development (ECD). The ECD Division of Policy and Budget will be renamed the Policy and Strategy Division.

This notice removes the Division of ECD Research, Analysis, and Communications and places the research and analysis functions in the Policy and Strategy Division and the communication functions into the Policy and Strategy Division and the Immediate Office of Early Childhood Development. It removes the ECD Division of Interagency and Special Initiatives and places the functions in the Policy and Strategy Division.

In addition to the Policy and Strategy Division, this reorganization creates three new divisions within ECD: the Tribal Early Childhood Division, the Budget Division, and the Administrative Operations Division.

This notice removes the ECD Division of Comprehensive Services and Training and Technical Assistance and places the functions into the newly created Training and Technical Assistance Division in OCC and the newly created Comprehensive Services and Training and Technical Assistance Division in OHS.

Within OHS, this reorganization creates the Comprehensive Services and Training and Technical Assistance Division. It removes the Budget Execution Division and moves its functions in its entirety to the newly created Budget Division within ECD. It also removes the budget execution functions from the Office of the Director of OCC and moves the functions to the Budget Division within ECD. Within OCC, it creates the Training and Technical Assistance Division.

Within OHS and OCC, it removes the administrative teams from the Office of the Directors and places them in the newly created Administrative Operations Division within ECD. Within OCC, the Division of Planning, Data, and Policy is renamed the Policy, Data, and Planning Division. Within OHS, this reorganization creates the Oversight Division. It renames the Division of Policy, Oversight, and Planning to the Policy and Planning Division and the Division of Grants is renamed the Competitive Grants Division.

This notice amends Part K of the Statement of Organization Functions, and Delegations of Authority of the Department of Health and Human Services (HHS), Administration for Children and Families (ACF): Chapter K, Administration for Children and Families, as last amended 83 FR 24119-22 (May 24, 2018); Chapter KA, Office of the Assistant Secretary, as last amended Chapter KU, Office of Head Start (OHS), as last amended 7346-7351, February 11, 2016; Chapter KV, Office of Child Care (OCC) as last amended 7346-7351, February 11, 2016.

I. Amend Chapter K, Administration for Children and Families, as Follows

A. Delete Section K.10, Administration for Children and Families, in its entirety and replace with the following:

K.10 Organization. The Administration for Children and Families (ACF) is a principal operating division of the Department of Health and Human Services (HHS). The Administration is headed by the Assistant Secretary for Children and Families, who reports directly to the Secretary. The Assistant Secretary also serves as the Director of Child Support Enforcement. In addition to the Assistant Secretary, the Administration consists of the Principal Deputy Assistant Secretary, the Chief of Staff, the Deputy Assistant Secretary for Administration, the Deputy Assistant Secretary for Policy, the Deputy Assistant Secretary for Native American Affairs and Commissioner, Administration for Native Americans, the Deputy Assistant Secretary for External Affairs, and Staff and Program Offices. ACF is organized as follows:

Office of the Assistant Secretary for Children and Families (KA)

Administration on Children, Youth and Families (KB)

Administration for Native Americans (KE)

Office of Child Support Enforcement (KF)

Office of Community Services (KG)

Office of Family Assistance (KH)

Office of Regional Operations (KJ)

Office of Planning, Research and Evaluation (KM)

Office of Communications (KN)

Office of the Deputy Assistant Secretary for Administration (KP)

Office of Refugee Resettlement (KR)

Office of Legislative Affairs and Budget (KT)

Office of Head Start (KU)

Office of Child Care (KV)

Office of Human Services Emergency Preparedness and Response (KW)

Office of Early Childhood Development (KY)

B. Establish Chapter KY, Office of Early Childhood Development:

KY.00 Mission. The mission of the Office of Early Childhood Development (ECD) is to advance an early childhood field that meets the developmental needs of children and their families in communities across the country. To achieve this mission, ECD advises the Secretary, through the Assistant Secretary for Children and Families, in formulating policy, budgets, implementation strategies, and new initiatives on matters related to early childhood programs and services under the purview of ACF and in collaboration with other operating divisions. ECD provides executive direction and management strategy to OCC and OHS.

KY.10 Organization. ECD is headed by the Deputy Assistant Secretary for Early Childhood Development (DAS-ECD) who reports directly to the Assistant Secretary for Children and Families. The Deputy Assistant Secretary is the primary policy advisor to the Assistant Secretary on all early childhood policy. The Associate Deputy Assistant Secretary for ECD and the Directors of the Office of Child Care and the Office of Head Start report directly to the Deputy Assistant Secretary.

Office of Early Childhood Development (KY)

Policy and Strategy Division (KYA)

Tribal Early Childhood Division (KYB)

Budget Division (KYC)

Administrative Operations Division (KYD)

KY.20 Functions.

A. Office of Early Childhood Development (KY): The Office of Early Childhood Development is responsible for providing leadership, planning, and oversight of early childhood systems across Head Start, child care, and other early childhood service delivery organizations. ECD also coordinates policy, legislative, program guidance, regulatory, and budgetary documents across the Office of Child Care (OCC), the Office of Head Start (OHS), Preschool Development Grants Birth to Five, and Tribal MIECHV.

The Associate Deputy Assistant Secretary for Early Childhood Development (ADAS) reports to and assists the Deputy Assistant Secretary in carrying out the responsibilities of ECD and serves as a liaison to the Directors and career leadership of OCC and OHS. The ADAS is a career senior executive service position, and the position also functions as the alter ego to the DAS. The ADAS performs the duties of the Deputy Assistant Secretary when the DAS is absent. Division Directors within ECD report directly to the ADAS.

B. Policy and Strategy Division (KYA): The Policy and Strategy Division is responsible for advising the DAS and ADAS on matters relating to early childhood policy and strategies, regulation development, legislative issues, and budget formulation to coordinate early childhood programs, improve services to children and families, and support the early childhood workforce; the coordination of policies and regulations, governing early childhood programs with the potential for cross-programmatic impact; the coordination of strategic plans and goals, development of cross-cutting and interagency policy and strategic problem solving; the coordination and development of cross-cutting budget and legislative proposals across ECD, OHS, and OCC; and administering cross-cutting early childhood programs including Preschool Development Grants Birth to Five.

C. Tribal Early Childhood Division (KYB): The Tribal Early Childhood Division is responsible for advising the DAS and the ADAS on matters relating to tribes and tribal early childhood programs, supporting collaboration across early childhood programs as it relates to Tribes, and engagement with Tribal leaders. The division administers the Tribal Maternal, Infant, and Early Childhood Home Visiting (MIECHV) program.

D. Budget Division (KYC): The Budget Division is responsible for budget execution and budget analysis to inform decision making, spending plans, and proposals across ECD, OHS, and OCC with the leadership of each office. The budget team also ensures budgetary resources are used in a manner consistent with appropriations and are not over spent or obligated beyond appropriate limits, prepares financial reports, and reviews financial operating plans. The Budget Division will coordinate closely with staff with budget formulation, planning, and policy responsibilities in OCC, OHS, and ECD.

E. Administrative Operations Division (KYD): The Administrative Operations Division is responsible for providing administrative and human resource support to ECD, OCC, and OHS. The division is responsible for recruitment, hiring and onboarding, timekeeping and personnel actions. In addition, the division handles travel administration, professional development opportunities, and equipment and supplies management. The Administrative Operations Division coordinates closely with the OCC and OHS Deputy Directors and Associate Deputy Directors to ensure the administrative needs for each program office are met.

II. Delete Chapter KU, Office of Head Start, in its Entirety and Replace it With the Following

KU.00 Mission. The Office of Head Start (OHS) has primary responsibility for the overall direction, policy, budget planning and development, and administration and oversight of Head Start program operations authorized under the Head Start Act. OHS identifies legislative and budgetary requirements; identifies areas for research, demonstration, and developmental activities; presents operational planning objectives and initiatives relating to Head Start to the Deputy Assistant Secretary for Early Childhood Development; and oversees the progress of approved activities.

KU.10 Organization. OHS is headed by a Director, who reports to the Deputy Assistant Secretary for Early Childhood Development. OHS is organized as follows:

Office of the Director (KUA)

Program Operations Division (KUB)

Head Start Regional Offices (KUBDI-XII)

Policy and Planning Division (KUE)

Competitive Grants Division (KUF)

Contracts Division (KUG)

Oversight Division (KUH)

Comprehensive Services, Training and Technical Assistance Division (KUI)

KU.20 Functions

A. Office of the Director (KUA): The Office of the Director (OD) is responsible for leading the office to ensure OHS fulfills its statutory responsibilities and programmatic objectives. The Director serves as the primary official responsible for all aspects of the administration of discretionary grant programs providing Head Start services. The OD has overall responsibility for policy and budget development specific to Head Start, strategic planning and setting operational goals, and management and oversight of the Head Start program. The OD also responds to inquiries from the public and governmental and non-governmental leaders.

The Deputy Director reports to and assists the Director in carrying out the responsibilities of OHS and performs the duties of the Director when absent. The Deputy Director and Associate Deputy Director of Head Start collaborate to support the mission of Head Start; manage the day-to-day operations of OHS; share supervision and management responsibilities for the OHS Division Directors, and other OD staff; and coordinate with and provide direction to the ECD Budget and Administrative Operations Divisions to manage the budget and administrative needs of OHS. The Associate Deputy Director reports to the Deputy Director and performs the duties of the Deputy Director when the Deputy Director is absent.

B. Program Operations Division (KUB): The Program Operations Division is responsible for providing oversight, direction, and guidance to the Head Start Regional Offices, providing ongoing management of national Head Start program operations, and managing Head Start program-level data systems. The division serves as OHS liaison to the ACF Office of Grants Management.

C. Head Start Regional Offices (KUBDI-XII): The Head Start Regional Offices are each headed by a Regional Program Manager (RPM). Head Start Regional Offices are responsible for administering funding, ongoing oversight and monitoring, and training and technical assistance to the grant recipient agencies that provide services to Head Start children and families; providing ongoing management of Regional Head Start program operations, including State Collaboration grants, and liaising within each Region to the Office of Child Care and the Office of Grants Management. Regions I through X are located in the ACF geographical regions. Region XI, American Indian/Alaska Native Head Start, located at the OHS central office, administers grants for American Indian and Alaskan Native Head Start grantees. Region XII, Migrant and Seasonal Head Start, located at the OHS central office, administers grants for agencies that serve the children and families of migrant and seasonal farm workers.

D. Policy and Planning Division (KUE): The Policy and Planning Division is responsible for overseeing the development and issuance of policy, regulations, program guidance, and documents governing Head Start. The division is responsible for legislative issues and budget formulation in coordination with ECD and consistent with ACF early childhood priorities. The division oversees activities for implementation of major policy, legislative regulatory and budget new initiatives and prepares materials in response to Congressional inquiries.

E. Division of Competitive Grants (KUF): The Competitive Grants Division is responsible for overseeing matters related to competitive discretionary and cooperative agreement funding opportunities, managing all competitive discretionary grant processes, and managing OHS interim grantees and grant recipient transitions. The division works with other ACF offices on matters related to competitive discretionary funding.

F. Contracts Division (KUG): The Contracts Division is responsible for ongoing oversight and monitoring of OHS contracts and providing expert technical assistance and guidance to OHS contract officer representatives on all matters related to procurement and acquisition. The division serves as a liaison to the Contracts Offices.

G. Oversight Division (KUH): The Oversight Division is responsible for activities to determine Head Start programs' compliance, quality improvement, and performance with all applicable requirements and regulations and conducting data analyses on monitoring outcomes. The division responds to inquiries from the Office of Inspector General (OIG) and the Government Accountability Office (GAO).

H. Comprehensive Services, Training and Technical Assistance Division (KUI): The Comprehensive Services, Training, and Technical Assistance (CSTTA) Division is responsible for: providing content expertise and leadership on comprehensive services; overseeing the training and technical assistance (TTA) system, including coordination and oversight of TTA cooperative agreements, and contracts, and providing expertise, consultation, and coordination to the Head Start Regional Offices. The division translates research to practice and evaluation by collaborating with other HHS offices and the broader scientific community.

III. Delete Chapter KV, Office of Child Care, in its Entirety and Replace With the Following

KV.00 Mission. The Office of Child Care (OCC) has primary responsibility for the overall direction, policy, implementation, budget planning and development, and oversight of child care program operations authorized under the Child Care and Development Block Grant (CCDBG) and section 418 of the Social Security Act. OCC supports state, tribal, and territorial grantees' efforts to provide child care subsidies to families with low incomes, improve the quality of child care for all children, support a high-quality and well-compensated workforce, and support a strong child care system able to meet the needs of children and families. OCC provides leadership and coordination for child care issues within ACF, HHS, and with relevant federal, state, local, and tribal governmental and non-governmental organizations.

KV.10 Organization. OCC is headed by a Director who reports to the Deputy Assistant Secretary for Early Childhood Development. OCC is organized as follows:

Office of the Director (KVA)

Training and Technical Assistance Division (KVA1)

Program Operations Division (KVA2)

Oversight and Accountability Division (KVA3)

Policy, Data, and Planning Division (KVA4)

Child Care Regional Offices (KVADI-X)

KV.20 Functions.

A. Office of the Director (KVA): The Office of the Director (OD) is responsible for leading the Program Office to ensure OCC fulfills its statutory responsibilities and programmatic objectives. The OD is responsible for the overall management, oversight, and policy and budget development specific to child care programs and for the supervision of the OCC Division Directors. The OD is also responsible for strategic planning and setting operational goals, planning initiatives to support strong implementation of CCDF and other initiatives that support a child care sector that meets the developmental needs of children and supports families and child care providers. The OD also responds to inquiries from the public and governmental and non-governmental leaders.

The Deputy Director and Associate Deputy Director report to the Director and manage the day-to-day operations of OCC; share supervision and management responsibilities for the OCC Division Directors, the Director of Regional Operations, and other OD staff; coordinate with and provide direction to the ECD Budget and Administrative Operations divisions to manage the budget and administrative needs of OCC; assist the Director in carrying out the duties of the OD; and perform the duties of the Director when absent.

B. Training and Technical Assistance Division (KVA1): The Training and Technical Assistance Division is responsible for overseeing the TTA system including coordination and oversight of technical assistance grants, cooperative agreements, and contracts. The division also oversees publications to support CCDF lead agencies and OCC priorities and coordinates with the other divisions in OCC on content related to program implementation, monitoring, policy, interagency agreements, and websites.

C. Program Operations Division (KVA2): The Program Operations Division is responsible for supporting the development, management, and oversight of CCDF plans, plan amendments, and waiver requests, to support compliance with federal law and regulation. The division works in partnership with regional program staff to facilitate responses to issues and questions on program implementation, policy, and other issues. The division is also responsible for analyzing information related to grantee program implementation.

D. Oversight and Accountability Division (KVA3): The Oversight and Accountability Division is responsible for monitoring grantees for compliance in the implementation of CCDF plans, and for programmatic and fiscal compliance with federal law, policies, and regulations. The division manages the program integrity and accountability oversight program, including audits, improper payments, error rates, and corrective actions. The division responds to inquiries from the Office of Inspector General (OIG) and Government Accountability Office (GAO).

E. Policy, Data, and Planning Division (KVA4): The Policy, Data, and Planning Division is responsible for overseeing development and issuance of policies, regulations, and other policy guidance. The division is responsible for legislative issues and budget formulation in coordination with ECD and consistent with ACF early childhood priorities. The division oversees activities for implementation of major policy, legislative, regulatory and budget new initiatives and prepares materials in response to Congressional inquiries. The division also oversees collection of state, territory, and tribal grantee data and reports and reviews and analyzes grantee data and performance measures.

F. Child Care Regional Offices (KVADI-X): Each of the ten OCC Regional Offices is headed by an OCC Regional Program Manager (RPM) who reports to the Director of Regional Operations within the OCC Office of the Director. OCC Regional Offices are responsible for ongoing oversight and monitoring, and technical assistance and working to resolve issues to bring all Lead Agencies in their region in full compliance with federal law, regulations, and policy. The RPM is responsible for liaising within each Region to the Office of Head Start and maintaining relationships with state, territory, tribal, and local officials.

V. Continuation of Policy

Except as inconsistent with this reorganization, all statements of policy and interpretations with respect to organizational components affected by this notice within ACF, heretofore issued and in effect on this date of this reorganization are continued in full force and effect.

VI. Delegation of Authority

All delegations and re-delegations of authority made to officials and employees of affected organizational components will continue in them, or their successors, pending further re-delegations, provided they are consistent with this reorganization.

VII. Funds, Personnel, and Equipment

Transfer of organizations and functions affected by this reorganization shall be accompanied in each instance by direct and support funds, positions, personnel, records, equipment, supplies, and other resources.

Xavier Becerra,
Secretary, U.S. Department of Health and Human Services.

[FR Doc. 2023-10072 Filed 5-18-23; 4:15 pm]

BILLING CODE 4184-01-P